DEPARTMENT OF ENERGY

Agency Information Collection Extension

AGENCY: Office of Electricity Delivery and Energy Reliability (OE), Department of Energy.

ACTION: Notice and Request for OMB Review and Comment.

SUMMARY: The Office of Electricity Delivery and Energy Reliability has submitted an information collection request to the OMB for extension under the provisions of the Paperwork Reduction Act of 1995. The information collection requests a three-year extension of its Department of Energy Form OE-417, “Emergency Electric Incident and Disturbance Report”, OMB Control Number 1901-0288. The proposed collection will be used by DOE to meet its overall national security and Department of Homeland Security's National Response Framework responsibilities. DOE will use the data from this form to obtain current information regarding emergency situations on U.S. electric energy supply systems. The data also may be used to develop legislative recommendations, reports to the Congress and as a basis for DOE investigations following severe, prolonged, or repeated electric power reliability problems.

DATES: Comments regarding this proposed information collection must be received on or before January 30, 2015. If you anticipate that you will be submitting comments, but find it difficult to do so within the period of time allowed by this notice, please advise the DOE Desk Officer at OMB of your intention to make a submission as soon as possible. The Desk Officer may be telephoned at 202-395-4718.

ADDRESSES: Written comments should be sent to the

DOE Desk Officer, Office of Information and Regulatory Affairs, Office of Management and Budget, New Executive Office Building, Room 10102, 735 17th Street NW., Washington, DC 20503.

And to

OE-417 Survey Manager, Office of Electricity Delivery and Energy Reliability, OE-40, Reference: OE-417 2014 Renewal, 1000 Independence Avenue SW., Washington, DC 20585.

Comments may be sent by fax at 202-586-2623, or by email at OE417renewal@hq.doe.gov.

FOR FURTHER INFORMATION CONTACT: Requests for additional information or copies of the information collection instrument and instructions should be directed to The OE-417 Survey Manager, The Office of Electricity Delivery and Energy Reliability, OE-40, 1000 Independence Avenue SW., Washington, DC 20585, OE417renewal@hq.doe.gov; mock up forms can be accessed at: http://www.oe.netl.doe.gov/oe417.aspx.

SUPPLEMENTARY INFORMATION: This information collection request contains: (1) OMB No. 1901-0288; (2) Information Collection Request Title: Emergency Electric Incident and Disturbance Report; (3) Three-year extension; (4) Purpose: The Federal Energy Administration Act of 1974 (Public Law 93-275, 15 U.S.C. 761 et seq.) and the DOE Organization Act (Public Law 95-91, 42 U.S.C. 7101 et seq.) requires the DOE to carry out a centralized, comprehensive, and unified energy information program. This program collects, analyzes, and disseminates information on energy resource reserves, production, demand, technology, and related economic and statistical information. This information is used to assess the adequacy of energy resources to meet near and longer-term domestic demands.

Currently, OE uses Form OE-417 to monitor major system incidents on the electric power systems, assess power generating capacity in the event of a significant disruption, and to conduct after-action non-regulatory investigations on significant interruptions of electric power. The information is used to meet DOE national-security responsibilities and requirements as set forth in the U.S. Department of Homeland Security's National Response Framework. The information may also be used in developing legislative recommendations/reports to Congress and coordinating Federal efforts regarding activities such as incidents/disturbances in critical infrastructure protection, the continuity of electric industry operations, and the continuity of operations. The information submitted may also be used by OE to analyze significant power interruptions of electric power from a non-regulatory perspective.

Based upon feedback received from the 60-Day Federal Register Notice, OE does not intend to proceed with protecting Schedule 2 of Form OE-417 under the Confidential Information Protection and Statistical Efficiency Act of 2002. Instead, OE proposes to maintain the current data protections of the form.

(5) Annual Estimated Number of Respondents: 2,924;

(6) Annual Estimated Number of Total Responses: 300;

(7) Annual Estimated Number of Burden Hours: 5061 hours;

(8) Annual Estimated Reporting and Recordkeeping Cost Burden: $0. There are no additional costs to respondents associated with the survey other than the costs associated with the burden hours.

Statutory Authority: Section 13(b) of the Federal Energy Administration Act of 1974, Pub. L. 93-275, codified at 15 U.S.C. 772(b).

Issued in Washington, DC, on December 22, 2014.
Patricia Hoffman,
Assistant Secretary, Office of Electricity Delivery and Energy Reliability, U. S. Department of Energy .

[FR Doc. 2014-30709 Filed 12-30-14; 8:45 am]

BILLING CODE 6450-01-P